DEPARTMENT OF THE INTERIOR

Bureau of Indian Affairs

Land Acquisitions; Skokomish Tribe of Washington

AGENCY: Bureau of Indian Affairs, Interior.

ACTION: Notice of Final Agency Determination to take land into trust under 25 CFR part 151.

SUMMARY: The Assistant Secretary—Indian Affairs made a final agency determination to acquire approximately 3.0 acres, of land into trust for the Skokomish Tribe of Washington on December 8, 2003. This notice is published in the exercise of authority delegated by the Secretary of the Interior to the Assistant Secretary—Indian Affairs by 209 Departmental Manual 8.1.

FOR FURTHER INFORMATION CONTACT: George Skibine, Office of Indian Gaming Management, Bureau of Indian Affairs, MS-4543 MIB, 1849 C Street, NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR part 151.12(b) is to afford interested parties the opportunity to seek judicial review of final administrative decisions to take land in trust for Indian tribes and individual Indians before transfer of title to the property occurs. On December 8, 2003, the Assistant Secretary—Indian Affairs decided to accept approximately 3.0 acres, of land into trust for the Skokomish Tribe of Washington under the authority of the Indian Reorganization Act of 1934, 25 U.S.C. 465. The 3.0 acre parcel is located within the exterior boundaries of the Skokomish Indian Tribe in Mason County, Washington. The parcel is currently used for the Tribe's gaming facility. No change in use is anticipated following conveyance of the parcel to the United States in trust for the Tribe.

The real property consists of a 3.0 acre tract known as “Parcel 1 of the Jackpot Property” situated in Mason County, Washington. The legal description of the property is as follows:

All that portion of the East half (E½) Northeast quarter (NE¼) of the Northwest quarter (NW¼) of the Southwest quarter (SW¼) of Section two (2), Township twenty-one (21) North, Range four (4) West, W.M., lying Easterly of the Easterly right-of-way line of U.S. Highway No. 101.

Excepting therefrom all that portion thereof which lies Southerly of the Northerly line of a tract of land particularly described as follows:

The Northerly 210 feet of the Southerly 401 feet of the East half (E½) Northeast quarter (NE¼) of the Northwest quarter (NW¼) of the Southwest quarter (SW¼) of Section two (2), Township twenty-one (21) North, Range four (4) West, W.M., lying Easterly of the Easterly right-of-way line of U.S. Highway No. 101, more particularly described as follows:

Commencing at the centerwest sixteenth corner of said Section two (2), which is an iron pipe; thence South 1°10′50″ West, 215.95 feet, along the East line of the Northeast quarter (NE¼) of the Northwest quarter (NW¼) of the Southwest quarter (SW¼) of said Section two (2), to the point of beginning of the tract of land hereby described; thence continuing South 1°10′50″ West, along said East line, 210.00 feet; thence North 88°50′03″ West, parallel with the South line of said Northeast quarter (NE¼) of the Northwest quarter (NW¼) of the Southwest quarter (SW¼), 244.14 feet, more or less, to the Easterly right-of-way line of U. S. Highway No. 101, as located on August 31, 1972; thence North 0°46′28″ East, along said Easterly right-of-way line, 210.00 feet, thence South 88°50′03″ East, 245.61 feet, more or less, to the point of beginning.

Also, excepting therefrom road rights-of-way.

Parcel No. 42102 32 00000.

Dated: December 8, 2003.
Aurene M. Martin,
Principal Deputy Assistant Secretary—Indian Affairs.

[FR Doc. 03-31473 Filed 12-19-03; 8:45 am]

BILLING CODE 4310-4N-P